DEPARTMENT OF ENERGY

Federal Energy Regulatory Commission

[Project No. 2306-143—VT]

Great Bay Hydro Corporation; Notice of Availability of Environmental Assessment

November 10, 2009.

In accordance with the National Environmental Policy Act of 1969 and the Federal Energy Regulatory Commission's (Commission) regulations, 18 CFR Part 380 (Order No. 486, 52 FR 47879), the Office of Energy Projects has reviewed the application filed by Great Bay Hydro Corporation on February 19, 2009, requesting Commission approval to amend the license for the Clyde River Hydroelectric Project. The project is located on the Clyde River in the City of Newport, in Orleans County, Vermont.

The Commission has prepared an environmental assessment (EA) that evaluates the environmental impacts of the licensee's proposal. The EA finds that approval of the application would not constitute a major federal action significantly affecting the quality of the human environment.

The EA is attached to a Commission order titled “Order Amending License”, issued November 9, 2009, and is available for review and reproduction at the Commission's Public Reference Room, located at 888 First Street, NE., Room 2-A, Washington, DC 20426. The EA may also be viewed on the Commission's Web site at http://www.ferc.gov using the “eLibrary” link. Enter the docket number (P-2306) excluding the last three digits in the docket number field to access the document. For assistance, contact FERC Online Support at FERCOnlineSupport@ferc.gov or toll-free at 1-866-208-3676, or for TTY, (202) 502-8659.

Nathaniel J. Davis, Sr.,
Deputy Secretary.

[FR Doc. E9-27922 Filed 11-19-09; 8:45 am]

BILLING CODE 6717-01-P